DEPARTMENT OF DEFENSE

Office of the Secretary

[Docket ID: DoD-2024-OS-0060]

Submission for OMB Review; Comment Request

AGENCY: Office of the Under Secretary of Defense for Research and Engineering (OUSD(R&E)), Department of Defense (DoD).

ACTION: 30-Day information collection notice.

SUMMARY: The DoD has submitted to the Office of Management and Budget (OMB) for clearance the following proposal for collection of information under the provisions of the Paperwork Reduction Act.

DATES: Consideration will be given to all comments received by October 23, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Certification of Qualified Products; DD Form 1718; OMB Control Number 0704-0487.

Type of Request: Revision.

Number of Respondents: 932.

Responses per Respondent: 1.

Annual Responses: 932.

Average Burden per Response: 30 minutes.

Annual Burden Hours: 466.

Needs and Uses: The information collection requirement is necessary to obtain, certify, and record qualification of products or processes falling under the DoD Qualification Program. Qualification ensures continued product performance, quality, and reliability. DD Form 1718 is sent to manufacturers every two years by the Qualifying Activity when the applicable specification does not contain complete requalification testing, and requests that manufacturers complete the form, certifying that their products still meet the specification requirements as originally tested. DD Form 1718 is included as an exhibit in an appeal or hearing case file as evidence of the reviewers' products or process qualifications in advance of, and independent of, acquisition.

Affected Public: Business or other for-profit.

Frequency: Biennially.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: September 17, 2024.
Aaron T. Siegel,
Alternate OSD Federal Register Liaison Officer, Department of Defense.

[FR Doc. 2024-21630 Filed 9-20-24; 8:45 am]

BILLING CODE 6001-FR-P